DEPARTMENT OF TRANSPORTATION

Federal Aviation Administration

14 CFR Part 71

[Docket No. FAA-2009-0867; Airspace Docket No. 09-ASW-16]

RIN 2120-AA66

Establishment of Area Navigation Route Q-37; Texas

AGENCY: Federal Aviation Administration (FAA), DOT.

ACTION: Final rule.

SUMMARY: This action establishes a high altitude area navigation (RNAV) route, designated Q-37, extending between the Pueblo, Colorado, VHF omnidirectional range/tactical air navigation (VORTAC) navigation aid and the Fort Stockton, Texas, VORTAC. The new route provides pilots and air traffic controllers with an efficient alternate route around potentially constrained airspace during convective weather events in west Texas.

DATES: Effective date 0901 UTC, October 20, 2011. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue, SW., Washington, DC 20591; telephone: (202) 267-8783.

SUPPLEMENTARY INFORMATION:

History

On Monday, October 26, 2009, the FAA published in the Federal Register a notice of proposed rulemaking (NPRM) to establish area navigation route Q-37 (74 FR 54943). Interested parties were invited to participate in this rulemaking effort by submitting written comments on the proposal. No comments were received.

The Rule

This action amends Title 14, Code of Federal Regulations (14 CFR) part 71 by establishing high altitude area navigation route Q-37 between the Pueblo, CO, VORTAC, and the Fort Stockton, TX, VORTAC. The new route provides pilots and air traffic controllers with an efficient alternate route around potentially constrained airspace during convective weather events in west Texas. Additionally, the new route is being integrated into the existing severe weather national playbook routes to Houston, TX, terminal airports through Albuquerque Air Route Traffic Control Center's airspace, in lieu of the current process of coordinating tactical modifications to routings with the FAA Air Traffic Control Services Command Center.

In the NPRM, the points CAVRN and IMMAS were erroneously identified as a “WP” (waypoint). These points are being established and charted as navigation fixes; therefore, an editorial change is being made in this rule to replace “WP” with “Fix” in the description for CAVRN and IMMAS. With the exception of these changes, this amendment is the same as that proposed in the NPRM.

High altitude RNAV routes are published in paragraph 2006 of FAA Order 7400.9U dated August 18, 2010, and effective September 15, 2010, which is incorporated by reference in 14 CFR 71.1. The RNAV route listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes an RNAV route to enhance the safe and efficient flow of traffic in the central United States.

Environmental Review

The FAA has determined that this action qualifies for categorical exclusion under the National Environmental Policy Act in accordance with FAA Order 1050.1E, “Environmental Impacts: Policies and Procedures,” paragraphs 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, dated August 18, 2010, and effective September 15, 2010, is amended as follows:

Paragraph 2006 United States Area Navigation Routes

* * * * *

Q-37 FST, TX to PUB, CO [New]

FST VORTAC

(Lat. 30°57′08″ N., long. 102°58′33″ W.)

CAVRN Fix

(Lat. 31°49′31″ N., long. 104°00′42″ W.)

YORUB WP

(Lat. 32°55′52″ N., long. 104°14′01″ W.)

IMMAS Fix

(Lat. 34°54′18″ N., long. 104°18′53″ W.)

PUB VORTAC

(Lat. 38°17′39″ N., long. 104°25′46″ W.)

* * * * *

Issued in Washington, DC, on August 15, 2011.
Gary A. Norek,
Acting Manager, Airspace, Regulations and ATC Procedures Group.

[FR Doc. 2011-21290 Filed 8-19-11; 8:45 am]

BILLING CODE 4910-13-P